NUCLEAR REGULATORY COMMISSION

10 CFR Part 50

RIN 3150-AI10

Enhancements to Emergency Preparedness Regulations

AGENCY: Nuclear Regulatory Commission.

ACTION: Availability of preliminary draft rule language.

SUMMARY: The Nuclear Regulatory Commission (NRC) staff is making available preliminary draft rule language that would constitute amendments to its regulations on emergency preparedness (EP). The release of the preliminary draft requirements is intended to inform stakeholders of the current status of the NRC's activities on its EP rulemaking. The goal of this rulemaking is to enhance EP regulations based on operating experience and the post-September 11, 2001, threat environment. The Commission has not reviewed the preliminary draft rule language, and this preliminary draft rule language may be subject to significant revisions during the rulemaking process.

DATES: The NRC is not soliciting formal public comments on the preliminary draft rule language at this time. Comments can be submitted for NRC consideration in the development of the proposed rule through the www.regulations.gov Web site until July 1st, 2008. There will be an opportunity for formal public comment on the proposed rule when the notice of proposed rulemaking is published in the Federal Register.

ADDRESSES: The preliminary draft rule language can be viewed and downloaded electronically via the Federal rulemaking Web site at www.regulations.gov and can be found by searching under Docket ID no. NRC-2008-0122. Along with any publicly available documents related to this rulemaking, the draft information may be viewed electronically on public computers in the NRC's Public Document Room (PDR), located at One White Flint North, 11555 Rockville Pike, Rockville, Maryland 20852, Room O-1 F21, and open to the public on Federal workdays from 7:45 a.m. until 4:15 p.m. The PDR reproduction contractor will make copies of documents for a fee.

FOR FURTHER INFORMATION CONTACT: Lauren Quinones-Navarro, Office of Nuclear Reactor Regulation, U.S. Nuclear Regulatory Commission, Washington, DC 20555-0001, telephone (301) 415-2007, e-mail, lqn@nrc.gov; or Kathryn Brock, Office of Nuclear Security and Incident Response, U.S. Nuclear Regulatory Commission, Washington, DC 20555-0001, telephone (301) 415-2015, e-mail, kmb3@nrc.gov.

SUPPLEMENTARY INFORMATION: The NRC staff is making a preliminary version of the draft proposed rule language available to inform stakeholders of the current status of the NRC's EP rulemaking effort. The staff recognizes that security-based events differ from accidental events at nuclear power plants and that EP regulations and guidance could be enhanced to better reflect the security elements in these regulations. Additionally, the NRC staff has determined that other aspects of the EP regulations could be enhanced based on years of EP inspection program implementation and stakeholder input. The rulemaking would codify security-based response elements of NRC Bulletin 2005-02, “Emergency Preparedness and Response Actions for Security-Based Events.” It would also enhance other key EP regulations in the areas of NRC-evaluated biennial exercises, emergency response organization staffing, emergency response facilities and equipment, and emergency plan maintenance and implementation.

The Commission paper (SECY-06-0200) which provided the results of the NRC staff review of the NRC's EP program and its recommendations regarding proposed enhancements to the EP regulations and guidance may be found at the NRC public Web site at http://www.nrc.gov/reading-rm/doc-collections/commission/secys/2006/secy2006-0200/2006-0200scy.pdf. The Rulemaking Plan concerning the revision of EP regulations and guidance may be found at http://www.nrc.gov/about-nrc/regulatory/rulemaking/rulemaking-plans.html.

Dated at Rockville, Maryland, this 29th day of February, 2008.
For the Nuclear Regulatory Commission.
Arlon Costa,
Chief, Financial Policy and Rulemaking Branch, Division of Policy and Rulemaking, Office of Nuclear Reactor Regulation.

[FR Doc. E8-4899 Filed 3-11-08; 8:45 am]

BILLING CODE 7590-01-P